DEPARTMENT OF HOMELAND SECURITY

Coast Guard

33 CFR Part 165

[CGD13-04-045]

RIN 1625-AA87

Security Zone; Protection of Military Cargo, Captain of the Port Zone Puget Sound, WA

AGENCY: Coast Guard, DHS.

ACTION: Final rule; notice of enforcement and suspension of enforcement.

SUMMARY: The Captain of the Port, Puget Sound will begin enforcing the Budd Inlet security zone established by 33 CFR 165.1321 on Tuesday, January 11, 2005, at 8 a.m. Pacific Standard Time. The security zone provides for the security of Department of Defense assets and military cargo in the navigable waters of Puget Sound and adjacent waters. The security zone will be enforced until Saturday, January 15, 2005, at 11:59 p.m. Pacific Standard Time.

DATES: The Budd Inlet security zone set forth in 33 CFR 165.1321 will be enforced from Tuesday, January 11, 2005, at 8 a.m. Pacific Standard Time to Saturday, January 15, 2005, at 11:59 p.m. Pacific Standard Time.

FOR FURTHER INFORMATION CONTACT: Captain of the Port, Puget Sound, 1519 Alaskan Way South, Seattle, WA 98134 at (206) 217-6200 or (800) 688-6664 to obtain information concerning enforcement of this rule.

SUPPLEMENTARY INFORMATION: On August 27, 2004, the Coast Guard published a final rule (69 FR 52603) establishing regulations, in 33 CFR 165.1321, for the security of Department of Defense assets and military cargo in the navigable waters of Puget Sound and adjacent waters. On December 10, 2004, the Coast Guard published a final rule (69 FR 71711), which amended 33 CFR 165.1321 by adding Budd Inlet, Olympia, WA as a permanent security zone. These security zones provide for the regulation of vessel traffic in the vicinity of military cargo loading facilities in the navigable waters of the United States. These security zones also exclude persons and vessels from the immediate vicinity of these facilities during military cargo loading and unloading operations. In addition, the regulation establishes requirements for all vessels to obtain permission of the COTP or the COTP's designated representative, including the Vessel Traffic Service Puget Sound (VTS) to enter, move within, or exit these security zones when they are enforced. Entry into these zones is prohibited unless otherwise exempted or excluded under 33 CFR 165.1321 or unless authorized by the Captain of the Port or his designee. The Captain of the Port, Puget Sound will begin enforcing the Budd Inlet security zone established by 33 CFR 165.1321 on Tuesday, January 11, 2005, at 8 a.m. Pacific Standard Time. The security zone will be enforced until Saturday, January 15, 2005, at 11:59 p.m. Pacific Standard Time. All persons and vessels are authorized to enter, move within, and exit the security zone on or after Saturday, January 15, 2005, at 11:59 p.m. Pacific Standard Time unless a new notice of enforcement is issued before then.

Dated: January 4, 2005.
Danny Ellis,
Captain, U.S. Coast Guard, Captain of the Port, Puget Sound.

[FR Doc. 05-734 Filed 1-12-05; 8:45 am]

BILLING CODE 4910-15-P